DEPARTMENT OF HOMELAND SECURITY

Federal Emergency Management Agency

44 CFR Part 65

Changes in Flood Elevation Determinations

AGENCY: Federal Emergency Management Agency (FEMA), Emergency Preparedness and Response Directorate, Department of Homeland Security.

ACTION: Final rule.

SUMMARY: Modified base (1% annual chance) flood elevations are finalized for the communities listed below. These modified elevations will be used to calculate flood insurance premium rates for new buildings and their contents.

EFFECTIVE DATES: The effective dates for these modified base flood elevations are indicated on the following table and revise the Flood Insurance Rate Map(s) (FIRMs) in effect for each listed community prior to this date.

ADDRESSES: The modified base flood elevations for each community are available for inspection at the office of the Chief Executive Officer of each community. The respective addresses are listed in the following table.

FOR FURTHER INFORMATION CONTACT: Doug Bellomo, P.E., Hazard Identification Section, Emergency Preparedness and Response Directorate, Federal Emergency Management Agency, 500 C Street, SW., Washington, DC 20472, (202) 646-2903.

SUPPLEMENTARY INFORMATION: The Federal Emergency Management Agency makes the final determinations listed below of modified base flood elevations for each community listed. These modified elevations have been published in newspapers of local circulation and ninety (90) days have elapsed since that publication. The Mitigation Division Director of the Emergency Preparedness and Response Directorate has resolved any appeals resulting from this notification.

The modified base flood elevations are not listed for each community in this notice. However, this rule includes the address of the Chief Executive Officer of the community where the modified base flood elevation determinations are available for inspection.

The modifications are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified base flood elevations are the basis for the floodplain management measures that the community is required to either adopt or to show evidence of being already in effect in order to qualify or to remain qualified for participation in the National Flood Insurance Program (NFIP).

These modified elevations, together with the floodplain management criteria required by 44 CFR 60.3, are the minimum that are required. They should not be construed to mean that the community must change any existing ordinances that are more stringent in their floodplain management requirements. The community may at any time enact stricter requirements of its own, or pursuant to policies established by other Federal, State or regional entities.

These modified elevations are used to meet the floodplain management requirements of the NFIP and are also used to calculate the appropriate flood insurance premium rates for new buildings built after these elevations are made final, and for the contents in these buildings.

The changes in base flood elevations are in accordance with 44 CFR 65.4.

National Environmental Policy Act. This rule is categorically excluded from the requirements of 44 CFR part 10, Environmental Consideration. No environmental impact assessment has been prepared.

Regulatory Flexibility Act. The Mitigation Division Director of the Emergency Preparedness and Response Directorate certifies that this rule is exempt from the requirements of the Regulatory Flexibility Act because modified base flood elevations are required by the Flood Disaster Protection Act of 1973, 42 U.S.C. 4105, and are required to maintain community eligibility in the NFIP. No regulatory flexibility analysis has been prepared.

Regulatory Classification. This final rule is not a significant regulatory action under the criteria of section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of section 2(b)(2) of Executive Order 12778.

List of Subjects in 44 CFR Part 65

Flood insurance, floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and name of newspaper where notice was published | Chief executive officer of community | Effective date of modification | Community number
Alabama: Houston (FEMA Docket No. D-7539) | City of Dothan | Mar. 14, 2003, Mar. 21, 2003, The Dothan Eagle | The Honorable Chester L. Sowell, III, Mayor of the City of Dothan, P.O. Box 2128, Dothan, Alabama 36302 | June 20, 2003 | 010104 E
Florida: Duval (FEMA Docket No. D-7539) | City of Jacksonville | Mar. 3, 2003, Mar. 10, 2003, The Florida Times-Union | The Honorable John A. Delaney, Mayor of the City of Jacksonville, City Hall, 117 West Duval Street, Suite 400, Jacksonvile, Florida 32202 | June 9, 2003 | 120077 E
Florida: Duval (FEMA Docket No. D-7539) | City of Jacksonville | Mar. 5, 2003, Mar. 12, 2003, The Florida Times-Union | The Honorable John A. Delaney, Mayor of the City of Jacksonville, City Hall, 117 West Duval Street, Suite 400, Jacksonville, Florida 32202 | Feb. 25, 2003 | 120077 E
Florida: Manatee (FEMA Docket No. D-7539) | Unincorporated Areas | Feb. 28, 2003, Mar. 7, 2003, Bradenton Herald | Mr. Ernie Padgett, Manatee County Administrator, 1112 Manatee Avenue West, P.O. Box 1000, Brandentown, Florida 34206 | Feb. 20, 2003 | 120153 C
Florida: Orange (FEMA Docket No. D-7539) | Unincorporated Areas | Mar. 5, 2003, Mar. 12, 2003, Orlando Sentinel | M. Krishnamurthy, P.E., Ph.D., Orange County Stormwater, Management Manager, 4200 South John Young Parkway, Orlando, Florida 32839 | Feb. 25, 2003 | 120179 E
Florida: Pinellas (FEMA Docket No. D-7539) | Unincorporated Areas | Feb. 27, 2003, Mar. 6, 2003, St. Petersburg Times | Mr. Stephen Spratt, Pinellas County Administrator, 318 Court Street, Clearwater, Florida 33756 | Feb. 19, 2003 | 125139 E
Georgia: Gwinnett (FEMA Docket No. D-7539) | Unincorporated Areas | Mar. 6, 2003, Mar. 13, 2003, Gwinnett Daily Post | Mr. F. Wayne Hill, Chairman of the Gwinnett County, Board of Commissioners, Justice and Administration Center, 75 Langley Drive, Lawrenceville, Georgia 30045 | Feb. 21, 2003 | 130322 E
New Jersey: Union (FEMA Docket No. D-7537) | Township of Berkeley Heights | Feb. 2, 2003, Feb. 10, 2003, The Courier—News | The Honorable David A. Cohen, Mayor of the Township of Berkeley Heights, 29 Park Avenue, Berkeley Heights, New Jersey 07922, | May 12, 2003 | 340459 E
North Carolina: Durham (FEMA Docket No. D-7539) | Unincorporated Areas | Apr. 4, 2003, Apr. 11, 2003, The Herald-Sun | Mr. Michael M. Ruffin, Durham County Manager, 200 East Main Street, 2nd Floor, Durham, North Carolina 27701 | July 11, 2003 | 370085 G

Dated: October 15, 2003.
(Catalog of Federal Domestic Assistance No. 83.100, “Flood Insurance.”)
Anthony S. Lowe,
Mitigation Division Director, Emergency Preparedness and Response Directorate.

[FR Doc. 03-26827 Filed 10-23-03; 8:45 am]

BILLING CODE 6718-04-P